DEPARTMENT OF TRANSPORTATION

Surface Transportation Board

[Docket No. AB 290 (Sub-No. 370X)]

Norfolk Southern Railway Company—Discontinuance of Service Exemption—in Clermont, Brown and Adams Counties, Ohio

On September 30, 2014, Norfolk Southern Railway Company (NSR) filed with the Surface Transportation Board (Board) a petition under 49 U.S.C. 10502 for exemption from the provisions of 49 U.S.C. 10903 to discontinue rail service over approximately 40.7 miles of rail line between milepost CT 32.83 at Williamsburg and milepost CT 73.50 at Plum Run in Clermont, Brown and Adams Counties, Ohio.

NSR states that the line includes the stations of Eastwood, Mt. Oreb, Sardinia, Mowrystown, Macon, Winchester, Seaman, Lawshe, Peebles, and Plum Run, all of which will be discontinued. Williamsburg is currently a station on the line, however, it will not be discontinued because NSR's Clare (Cincinnati)—Williamsburg, Ohio segment immediately to the west of and contiguous with the subject line is currently operated by CCET, LLC. (CCET).¹ The line traverses U.S. Postal Service Zip Codes 45154, 45171, 45176, 45660, 45679, and 45697.

¹ CCET was granted authority to lease and operate the rail line in CCET, LLC—Lease & Operation Exemption—Rail Line of Norfolk Southern Railway, FD 35810 (STB served April 4, 2014).

NSR states that the line does not contain any federally granted rights-of-way. Any documentation in NSR's possession will be made available promptly to those requesting it.

The interest of railroad employees will be protected by the conditions set forth in Oregon Short Line Railroad-Abandonment Portion Goshen Branch Between Firth & Ammon, in Bingham & Bonneville Counties, Idaho, 360 I.C.C. 91 (1979).

By issuance of this notice, the Board is instituting an exemption proceeding pursuant to 49 U.S.C. 10502(b). A final decision will be issued by January 16, 2015.

Because this is a discontinuance proceeding and not an abandonment proceeding, trail use/rail banking and public use conditions are not appropriate. Similarly, no environmental or historic documentation is required under 49 CFR 1105.6(c)(2) and 1105.8.

Any offer of financial assistance (OFA) under 49 CFR 1152.27(b)(2) to subsidize continued rail service will be due no later than January 26, 2015, or 10 days after service of a decision granting the petition for exemption, whichever occurs sooner. Each offer must be accompanied by a $1,600 filing fee. See 49 CFR 1002.2(f)(25).

All filings in response to this notice must refer to Docket No. AB 290 (Sub-No. 370X) and must be sent to: (1) Surface Transportation Board, 395 E Street, SW., Washington, DC 20423-0001; and (2) William A. Mullins, Baker & Miller PLLC, 2401 Pennsylvania Ave. NW., Suite 300, Washington, DC 20037. Replies to the petition are due on or before October 30, 2014.

Persons seeking further information concerning discontinuance procedures may contact the Board's Office of Public Assistance, Governmental Affairs, and Compliance at (202) 245-0238 or refer to the full abandonment and discontinuance regulations at 49 CFR pt. 1152. Questions concerning environmental issues may be directed to the Board's Office of Environmental Analysis (OEA) at (202) 245-0305. [Assistance for the hearing impaired is available through the Federal Information Relay Service (FIRS) at 1-800-877-8339.]

Board decisions and notices are available on our Web site at “WWW.STB.DOT.GOV.”

Decided: October 14, 2014.
By the Board, Rachel D. Campbell, Director, Office of Proceedings.
Brendetta S. Jones,
Clearance Clerk.

[FR Doc. 2014-24878 Filed 10-17-14; 8:45 am]

BILLING CODE 4915-01-P